DEPARTMENT OF AGRICULTURE

Submission for OMB Review; Comment Request

March 6, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, D.C. 20503 and to Departmental Clearance Office, USDA, OCIO, Mail Stop 7602, Washington, D.C. 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Risk Management Agency

Title: New Crop Insurance Programs (pilot and private crop insurance policies).

OMB Control Number: 0563-0057.

Summary of Collection: The Federal Crop Insurance Act (ACT), as amended in 1994 and 1996, further expanded the role of the crop insurance program to be the principal tool for risk management by producers of farm products. The expansion mission of the Risk Management Agency (RMA) is to meet the obligation of mandatory program development and to expand the current program to provide risk management products to the greatest number of people covering the greatest dollar value of commodities. Extensive research is completed prior to the development and implementation of a new pilot program of insurance. The development phase of a pilot program includes gathering, analyzing, and evaluating the agronomic suitability and cultural practices of a crop in each specific area. During the pilot crop insurance coverage development process, RMA prepares the crop insurance policy provisions, underwriting guidelines, actuarial documents, and loss adjustment standards. RMA will collect information using several forms.

Need and Use of the Information: RMA will collect information indicating the crop, type, variety, and practice that will be insured in the state and county along with the premium rates and crop price elections that will be available. The information is used to determine liability and premium. The information collected on the forms will be used by Federal Agencies, RMA, crop insurance companies reinsured by FCIC, and other agencies that require such information in the performance of their duties.

Description of Respondents: Farms; Business or other for-profit.

Number of Respondents: 80,889.

Frequency of Responses: Recordkeeping; Reporting: Annually.

Total Burden Hours: 73,228.

Office of Outreach

Title: USDA Minority Farm Register.

OMB Control Number: 0508-NEW.

Summary of Collection: The 1990 Farm Bill, Section 2501 provides the authority for “The Secretary of Agriculture * * * to provide outreach and technical assistance to encourage and assist socially disadvantaged farmers and ranchers to own and operate farms and ranches and to participate in agricultural programs.” A team of USDA leaders in early 1997 was appointed to examine civil rights issues in the USDA. A number of civil rights forums were held around the country to hear program delivery comments and complaints. The Secretary appointed a Civil Rights Implementation Team and ordered that all recommendations be implemented. Establishment of a baseline for the number of minority farms by supporting a voluntary register of minority farms, which will help USDA set goals to halt land loss and to monitor the loss of minority-owned farms, was one of the primary recommendations.

Need and Use of the Information: The Office of Outreach will collect information from minorities and socially disadvantaged farmers to document the amount of farmland owned by race/ethnicity. The Register will establish a baseline of minority farmland ownership, which can be monitored over time. The Office of Outreach will provide names and addresses to approved organizations assisting minorities with land retention and acquisition initiatives.

Description of Respondents: Farms.

Number of Respondents: 120,000.

Frequency of Responses: Reporting: On occasion.

Total Burden Hours: 10,000.

Agricultural Marketing Service

Title: 7 CFR Part 37—Program to Accredit Organic Certifying Agencies.

OMB Control Number: 0581-0183.

Summary of Collection: The Agricultural Marketing Act (AMA) of 1946, as amended, authorizes the Secretary of Agriculture to provide consumers with voluntary services that facilitate the marketing of meat and meat products. A voluntary program to accredit organic certifying agencies would help ensure that U.S. organic products can be exported to European Union countries that require accreditation by a government body under the International Organization for Standardization Guide 65, entitled General Requirements for Bodies Operating Product Certification Programs.” The Agricultural Marketing Service (AMS) will collect information using form LS-314, Quality System Certification Program Application for Service.

Need and Use of the Information: AMS will collect information to identify the responsible authorities in establishments requesting services and initiate billing and collection accounts. Without a properly signed and approved form LS-314, AMS officials would not have the authority to accredit organic certifying agencies nor would users of the service be legally obligated to abide by the regulations or to remit payment for services rendered.

Description of Respondents: Business or other for-profit; State, Local or Tribal Government.

Number of Respondents: 44.

Frequency of Responses: Recordkeeping; Reporting: On occasion; Monthly.

Total Burden Hours: 3,531.

Agricultural Marketing Service

Title: Fruit and Vegetable Market News Reports.

OMB Control Number: 0581-0006.

Summary of Collection: Section 203(g) of the Agricultural Marketing Act of 1946 (7 U.S.C. 1621) directs and authorizes the collection of information and disseminating of marketing information including adequate outlook information on a market-area basis for the purpose of anticipating and meeting consumer requirements, aiding in the maintenance of farm income and bring about balance between production and utilization of agriculture products. Market News provides all interested segments of the market chain with market information tends to equalize the competitive position of all market participants. The fruit and vegetable industries, through their organizations, or government agencies present formal requests that the Department of Agriculture issue daily, weekly, semi-monthly, or monthly market news reports on various aspects of the industry. The Agricultural Marketing Service (AMS) will collect information in person and by phone.

Need and Use of the Information: AMS will collect information for the production of Market News reports that are then available to the industry and other interested parties in various formats.

Description of Respondents: Farms; Business or other for-profit.

Number of Respondents: 18,361.

Frequency of Responses: Reporting: Weekly; Monthly; Other (Daily).

Total Burden Hours: 121,010.

Agricultural Marketing Service

Title: Application for Plant Variety Protection Certificate and Objective Description of Variety.

OMB Control Number: 0581-0055.

Summary of Collection: The Plant Variety Protection Act (PVPA, was approved December 24, 1970; 84 Stat. 1542, 7 U.S.C. 2321 et seq.) was established to encourage the development of novel varieties of sexually-reproduced plants and make them available to the public, providing intellectual property rights (IPR) protected to those who breed, develop, or discover such novel varieties, and thereby promote progress in agriculture in the public interest. The PVPA is a voluntary user funded program which grants intellectual property ownership rights to breeders of new and novel seed- and tuber-reproduced plant varieties. To obtain these rights the applicant must provide information which shows the variety of eligible for protection and that it is indeed new, distinct, uniform, and stable as the law requires. The Agricultural Marketing Service (AMS) will collect information using forms ST-470, ST-470-E and ST Series Forms.

Need and Use of the Information: AMS will collect information from the applicant to determine if the variety is eligible for protection under the PVPA. If this information is not collected there would be no basis for issuing certificates of protection, and no way for applicants to request protection.

Description of Respondents: Business or other for-profit; Not-for-profit institutions; Federal Government.

Number of Respondents: 116.

Frequency of Responses: Reporting: On occasion.

Total Burden Hours: 1,691.

Agricultural Marketing Service

Title: Generic OMB Fruit Crops, Marketing Order Administration Branch.

OMB Control Number: 0581-NEW.

Summary of Collection: Marketing Orders (Orders) and Agreements (Agreements) covering the respective commodities emanate from the Agricultural Marketing Agreement Act of 1937, Secs. 1-19, 48 Stat. 31, as amended; 7 U.S.C. 601-674. This regulation, hereinafter referred to as the Act, was designated to permit regulation of certain agricultural commodities for the purpose of providing orderly marketing conditions in interstate commerce and improving returns to producers. The Act provides in section 608(d)(1) that information necessary to determine the extent to which an order has effectuated the declared policy of the Act shall be furnished at the request of the Secretary of Agriculture (Secretary). Orders/Agreements are administered by committees/boards that consist of producer/growers, handlers, and, in some cases, a member representing the public. Producers who voluntarily apply to participate in certain programs are required to submit certain information, pursuant to the specified sections in the order/agreement. AMS will collect information using several forms.

Need and Use of the Information: AMS will collect information relating to supplies, shipments, and dispositions of their respective commodities and other information needed to effectively carry out the purpose of the AMAA and their respective orders.

Descriptive of Respondents: Business or other for-profit; Individuals or households; Not-for-profit institutions; Farms; Federal Government.

Number of Respondents: 4,052.

Frequency of Response: Recordkeeping; Reporting: On occasion; Quarterly; Biennially; Weekly; Semi-annually; Monthly; Annually.

Total Burden Hours: 2,978.

Agricultural Marketing Service

Title: Regulations for Inspection of Eggs.

OMB Control Number: 0581-0113.

Summary of Collection: Congress enacted the Egg Products Inspection Act (21 U.S.C. 1031-1056) (EPIA) to provide a mandatory inspection program to assure egg products are processed under sanitary conditions, are wholesome, unadulterated, and properly labeled; to control the disposition of dirty and checked shell eggs; to control unwholesome, adulterated, and inedible egg products and shell eggs that are unfit for human consumption; and to control the movement and disposition of imported shell eggs and egg products that are unwholesome and inedible. The Agricultural Marketing Service (AMS) will collect information using several forms.

Need and Use of the Information: AMS will collect information to serve the Agency mission, program objectives and management needs in providing information on the efficiency and effectiveness of the program—whether the program meets the needs of the users and consumers; workload; area where the workload may be increasing or decreasing, requiring needed changes in field and supervisory staffing and travel; program and cost analyses; changes that may be needed in the program; evaluating the goals of the Agency; and review and evaluation of information collection. The information will be used to assure compliance with the Act and regulations and to take administrative and regulatory action. The information will also be used to develop and revise cooperative agreements with the States, which conduct surveillance inspections of shell egg handlers and processors. If the information is not collected AMS would not be able to carry out the intent of Congress; i.e., enforce the Act to control the processing, movement, and disposition of restricted shell eggs, unwholesome, adulterated, and inedible eggs and egg products; to prevent their use as human food; to control imports of such eggs and egg products; and to take regulatory action in case of noncompliance.

Description of Respondents: Business or other for-profit; Federal Government; State, Local or Tribal Government.

Number of Respondents: 1,134.

Frequency of Responses: Recordkeeping; Reporting: On occasion; Quarterly.

Total Burden Hours: 1,922.

Agricultural Marketing Service

Title: Pricing Pilot Program.

OMB Control Number: 0581-NEW.

Summary of Collection: The pilot program was included in the Consolidated Appropriations Act 2000 (Section 3 of H.R. 3428 of the 106th Congress, as enacted by Section 1001(a) (8) of Public Law 106-113 (113 Stat. 1536), signed into law on November 29, 1999. A disclosure statement is to be completed by dairy farmers who choose to participate in a Congressionally—mandated pilot program. The statement contains guidelines to help the farmer understand the forward contract process. The pilot project is to enable the Agricultural Marketing Service (AMS) to conduct a study of forward contracting to determine the impact of milk prices paid to producers in the U.S.

Need and Use of the Information: AMS will collect information to review the contract to ensure it has been signed before exempting a handler from paying a contractor producer the minimum order price for that portion of his or her milk that is covered by the contract. AMS will also determine the impact on milk prices paid to producers in the United States. If the information is not collected the forward pricing pilot program that was mandated by Congress will not be able to be conducted and forward pricing contractors would not be recognized under the Federal Order program.

Description of Respondents: Farms.

Number of Respondents: 8,000.

Frequency of Responses: Reporting: On occasion.

Total Burden Hours: 2,000.

Agency has requested emergency approval by March 24, 2000.

Food and Nutrition Service

Title: Operating Guidelines, Forms and Waivers.

OMB Control Number: 0584-0083.

Summary of Collection: Section 11(d) of the Food Stamp Act of 1977, as amended, provides that the State agency of each participating State shall submit to the Secretary for approval a plan of operation specifying the manner in which the Food Stamp Program will be conducted within the State in every political subdivision. Section 11(e) of the Act provides that the State plan of operation shall provide for State agency verification of household eligibility prior to certification, completion of certification within 30 days of filing of the application, fair hearing, and submission of reports as required by the Secretary. The basic components of the State Plan of Operation are the Federal/State Agreement, the Budget Projection Statement, and the program Activity Statement (272.2(a)(2). Under part 272.2(c), the State agency shall submit to the Food and Nutrition Service (FNS) for approval a Budget Projection Statement (which projects total Federal administration costs for the upcoming fiscal year) and a Program Activity Statement (which provides program activity data for the preceding fiscal year). FNS will collect information using Forms FNS 366A and FNS 366B.

Need and Use of the Information: FNS will collect information to estimate funding needs and also provide data on the number of applications processed, number of fair hearings, and fraud control activity. FNS uses the data to monitor State agency activity levels and performance. If the information was not collected it would disrupt budget planning and delay appropriation distributions.

Description of Respondents: State, Local, or Tribal Government.

Number of Respondents: 53.

Frequency of Responses: Recordkeeping; Reporting: On occasion; Quarterly; Annually.

Total Burden Hours: 3,768.

William McAndrew,
Departmental Clearance Officer.

[FR Doc. 00-5853 Filed 3-9-00; 8:45 am]

BILLING CODE 3410-01-M